DEPARTMENT OF VETERANS AFFAIRS

[OMB Control No. 2900-0678]

Agency Information Collection Activity Under OMB Review: On-the-Job Training Agreement

AGENCY: Veterans Benefits Administration, Department of Veterans Affairs.

ACTION: Notice.

SUMMARY: In compliance with the Paperwork Reduction Act (PRA) of 1995, this notice announces that the Insert Administration name, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0678.

FOR FURTHER INFORMATION CONTACT: Maribel Aponte, Office of Enterprise and Integration, Data Governance Analytics (008), 1717 H Street NW, Washington, DC 20006, (202) 266-4688 or email maribel.aponte@va.gov. Please refer to “OMB Control No. 2900-0678” in any correspondence.

SUPPLEMENTARY INFORMATION:

Authority: 38 U.S.C. 501(a), 38 U.S.C. 3104 and 38 U.S.C. 3116.

Title: On-The-Job Training Agreement.

OMB Control Number: 2900-0678.

Type of Review: Reinstatement of a previously approved collection.

Abstract: VA Form 28-1904 is used to gather the necessary information to develop formal training agreements for training and rehabilitation under 38 U.S.C. Chapter 31. Additionally, the information is used to authorize a claimant's participation in a program of training under 38 U.S.C. 501(a), 38 U.S.C. 3014 and 38 U.S.C. 3116.

The Federal Register Notice with a 60-day comment period soliciting comments on this collection of information was published at 86 FR 76 on April 22, 2021, pages 21437 and 21438.

Affected Public: Government and Private Sector.

Estimated Annual Burden: 350 hours.

Estimated Average Burden per Respondent: 15 minutes.

Frequency of Response: One time.

Estimated Number of Respondents: 1,400.

By direction of the Secretary.
Dorothy Glasgow,
VA PRA Clearance Officer (Alternate), Office of Enterprise and Integration, Data Governance Analytics, Department of Veterans Affairs.

[FR Doc. 2021-13752 Filed 6-25-21; 8:45 am]

BILLING CODE 8320-01-P